DEPARTMENT OF EDUCATION

34 CFR Part 75

[Docket ID ED-2021-OPEPD-0054]

Proposed Priorities and Definitions—Secretary's Supplemental Priorities and Definitions for Discretionary Grants Programs

AGENCY: U.S. Department of Education.

ACTION: Proposed priorities and definitions.

SUMMARY: To support a comprehensive education agenda, the Secretary proposes six priorities and related definitions for use in discretionary grant programs. The Secretary may choose to include an entire priority within a grant program or one or more of its subparts. These proposed priorities and definitions are intended to replace the current supplemental priorities published on March 2, 2018, the Opportunity Zones final priority published on November 27, 2019, and the Remote Learning priority published on December 30, 2020. However, those priorities remain in effect for notices inviting applications (NIAs) published before the Department finalizes the proposed priorities in this document. Retaining the Administrative Priorities published on March 9, 2020, allows us to continue to prioritize rural applicants, new applicants, and other priorities while the Department continues to examine potential updates to the Education Department General Administrative Regulations, which may include incorporation of those March 9, 2020, priorities.

DATES: We must receive your comments on or before July 30, 2021.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ.”

• Postal Mail, Commercial Delivery, or Hand Delivery: If you mail or deliver your comments about the proposed priorities and definitions, address them to Nkemjika Ofodile-Carruthers, U.S. Department of Education, 400 Maryland Avenue SW, Room 4W308, Washington, DC 20202.

Privacy Note: The Department of Education's (Department's) policy is to make all comments received from members of the public available for public viewing in their entirety on the Federal eRulemaking Portal at www.regulations.gov. Therefore, commenters should be careful to include in their comments only information that they wish to make publicly available.

FOR FURTHER INFORMATION CONTACT: Nkemjika Ofodile-Carruthers, U.S. Department of Education, 400 Maryland Avenue SW, Room 4W308, Washington, DC 20202. Telephone: (202) 401-4389. Email: nkemjika.ofodile-carruthers@ed.gov.

If you use a telecommunications device for the deaf (TDD) or a text telephone (TTY), call the Federal Relay Service (FRS), toll-free, at 1-800-877-8339.

SUPPLEMENTARY INFORMATION:

Invitation to Comment: We invite you to submit comments regarding the proposed priorities and definitions. To ensure that your comments have maximum effect in developing the final priorities and definitions, we urge you to clearly identify the specific section of the proposed priority or definition that each comment addresses.

We invite you to assist us in complying with the specific requirements of Executive Orders 12866 and 13563 and their overall requirement of reducing regulatory burden that might result from the proposed priorities and definitions. Please let us know of any further ways we could reduce potential costs or increase potential benefits while preserving the effective and efficient administration of our programs.

During and after the comment period, you may inspect all public comments about the proposed priorities and definitions by accessing Regulations.gov. Due to the novel coronavirus 2019 (COVID-19) pandemic, the Department buildings are currently not open to the public. However, upon reopening, you may also inspect the comments in person in Room 4W308, 400 Maryland Avenue SW, Washington, DC, between the hours of 8:30 a.m. and 4:00 p.m., Eastern time, Monday through Friday of each week except Federal holidays.

Assistance to Individuals with Disabilities in Reviewing the Rulemaking Record: On request, we will provide an appropriate accommodation or auxiliary aid to an individual with a disability who needs assistance to review the comments or other documents in the public rulemaking record for the proposed priorities and definitions. If you want to schedule an appointment for this type of accommodation or auxiliary aid, please contact the person listed under FOR FURTHER INFORMATION CONTACT.

Program Authority: 20 U.S.C. 1221e-3.

Proposed Priorities: This document contains six proposed priorities.

Background

The Secretary proposes six priorities and related definitions for use in discretionary grant programs to reflect the Secretary's vision for American education. This vision includes a respect for the dignity and potential of each and every student and their access to educational opportunity. These proposed priorities are aligned with evidence-based (as defined in this document) and capacity-building approaches to addressing various interconnected policy issues in the Nation's education system.

With a focus on creating the conditions under which students have equitable access to opportunity, these proposed priorities address a variety of areas. In K-12 education, these areas include closing the large gaps in funding and opportunity within school districts, schools, classrooms, and other learning environments; implementing effective approaches to teaching and learning; closing the divides in digital access and use; meeting the social, emotional, and academic needs of all students and creating safe, nurturing, and inclusive learning environments; improving educator diversity; expanding opportunities for educators to receive the preparation, support, and respect they need and deserve; and expanding access to high-quality early learning (as defined in this document). In postsecondary education, the proposed priorities address increasing access and success in postsecondary education for underserved students (as defined in this document), including making college affordable and fostering supportive career pathways. In both K-12 and postsecondary education, the proposed priorities include a focus on providing all students with access to high-quality schools and institutions that prepare them for college and career with a balance of quality coursework that includes the arts and sciences; ensuring post-enrollment success; supporting preparatory and current educator growth; and strengthening high-quality career and technical education.

The Secretary proposes these priorities to advance evidence-based and capacity building approaches with an understanding that meeting these goals requires multifaceted efforts. For example, rather than a priority that is focused solely on educator professional development, the proposed priority addresses the needs of all educators, all aspects of the educator pipeline, and the diversity of and equitable access to those educators. This approach to the priorities provides a vision for systems-level approaches that build capacity for long-term change. Furthermore, in order to ensure those change efforts are effectively targeted to meet the needs of students, these proposed priorities also include a focus on specific subgroups of students, such as military- and veteran-connected students (as defined in this document), which will provide greater flexibility for the Secretary to focus the work of grantees on areas of critical need.

Additionally, regarding each technology reference, all technology developed or used under these proposed priorities must be accessible to English learners and to individuals with disabilities in accordance with Section 504 of the Rehabilitation Act of 1973 and Title II of the Americans with Disabilities Act, as applicable.

These proposed priorities and definitions are intended to replace the current supplemental priorities published on March 2, 2018 (83 FR 9096), the Opportunity Zones final priority published on November 27, 2019 (84 FR 65300), and the Remote Learning priority published on December 30, 2020 (85 FR 86545); NIAs published before the finalization of these proposed priorities that use the current priorities remain in effect. At this time, we are retaining the Administrative Priorities published on March 9, 2020 (85 FR 13640) while the Department continues to examine potential updates to the Education Department General Administrative Regulations, which may include incorporation of these March 9, 2020, priorities.

Proposed Priority 1—Addressing the Impact of COVID-19 on Students, Educators, and Faculty.

Background:

The COVID-19 pandemic negatively affected many students, educators, and faculty throughout the country. Although virtually everyone was affected to some degree, the pandemic has had a disproportionate impact on underserved students and laid bare the unique challenges faced by these students. Many of these challenges pre-date the pandemic and will be felt for years to come. For example, some of these students were already less likely to have access to the resources, such as broadband, and student supports required to participate in high-quality remote education. Underserved students are also more likely to rely on key school- or campus-supported resources such as food programs, special education and related services, health services (including mental health), counseling, or after-school programs to meet basic or developmental needs.¹ For parents, guardians, or caregivers who have less flexible jobs, staying at home to provide childcare or aid with remote learning may be impracticable or impossible, which may further exacerbate these challenges.²

¹ https://learningpolicyinstitute.org/sites/default/files/product-files/Educating_Whole_Child_REPORT.pdf.

² https://files.eric.ed.gov/fulltext/ED610000.pdf.

To mitigate the impact of the COVID-19 pandemic and support safe in-person instruction, schools and campuses need sufficient resources, close collaboration with local public health officials, and the support of community members who commit to following State and local public health guidelines. Consistent implementation of effective strategies for preventing the transmission of COVID-19 during all school-related activities is critical for keeping schools and campuses open. It is essential that schools and students receive the resources, technical assistance, and other supports necessary to plan and implement comprehensive prevention strategies and that administrators, educators, and faculty consistently engage students, parents, and community partners throughout the process—paying close attention to underserved communities including communities of color, which have borne a disproportionate burden of COVID-19.³

³ See www.cdc.gov/coronavirus/2019-ncov/community/health-equity/racial-ethnic-disparities/index.html.

Moving forward, as the effects of the pandemic will be residual and last for years, schools will also need to increase their support of students' social, emotional, mental health, and academic needs in response to the impacts of COVID. As students return to in-person learning, they will need ongoing support and innovative approaches to learning in the coming years to accelerate learning and succeed. Educators may need resources to learn new approaches to supporting students, especially in communities that have faced significant loss and trauma. In addition, educators may need additional support and development to mitigate the longer-term impact of COVID on their own well-being. States and districts also need resources to stabilize current workforce positions and protect the pipeline into the profession.

The impact of the COVID-19 pandemic changed the education landscape for the foreseeable future, especially as students continue to make up for lost classroom instruction. However, it also provides an opportunity to redesign how schools approach teaching and learning in ways that both address long-standing gaps in educational opportunity and better prepare students for college and careers. This priority would support recovery and innovation to best serve students and support educators.

Proposed Priority:

Projects that are designed to address the impacts of the COVID-19 pandemic, including impacts that extend beyond the timing of the pandemic itself, the students most impacted by the pandemic, and the educators who serve them through one or more of the following priority areas:

(a) Conducting community asset-mapping and needs assessments that may include an assessment of the extent to which students have become disengaged from learning, including students not participating in in-person or remote instruction, and specific strategies for reengaging and supporting students.

(b) Providing resources and supports to meet the basic, fundamental, health and safety needs of students and educators.

(c) Addressing students' social, emotional, mental health, and academic needs.

(d) Addressing teacher, faculty, and staff well-being.

(e) Providing students and educators with access to reliable high-speed broadband and devices; providing students with access to high-quality, technology-supported learning experiences that are accessible to children or students with disabilities ⁴ and educators with disabilities to accelerate learning; and providing educators with access to job-embedded professional development to support the effective use of technology.

⁴ In an NIA, the Department would use either “children with disabilities” or “students with disabilities,” depending on which term is more appropriate for the program. In this document, we use these terms interchangeably.

(f) Using technology to enable evidence-based interventions to support personalized in-person student learning as well as evidence-based supplemental activities that extend learning time and increase student engagement and, where possible, increase parent engagement.

(g) Using evidence-based instructional approaches and supports to accelerate learning for students in ways that ensure all students have the opportunity to successfully meet challenging academic content standards without contributing to tracking or remedial courses.

(h) Using evidence-based instructional approaches or supports to better allow individuals who did not enroll in, withdrew from, or reduced course loads in postsecondary education or training programs due to COVID-19 to enroll, remain enrolled, and complete credit-bearing coursework and earn recognized postsecondary credentials.

Proposed Priority 2—Promoting Equity in Student Access to Educational Resources, Opportunities, and Welcoming Environments.

Background:

Improving educational equity is a priority for the Biden-Harris Administration, with particular focus on supporting underserved students. The Department seeks to remedy the deeply rooted inequities in this country's education system which when addressed, will better allow access to educational opportunity for underserved students and enable educators to work toward closing achievement gaps.

Inadequate access to and the inequitable distribution of resources negatively affect underserved students' educational experience in a number of ways, which may include fewer opportunities for educational enrichment, high-quality early learning, well-rounded coursework, and high-quality college and career pathways; discriminatory design and administration of school discipline and its associated outcomes; and limited access to the most prepared, experienced, and effective teachers. These factors can limit access to resources and success in student learning.

For example, a December 2020 brief from the National Center for Education Statistics at the Department's Institute of Education Sciences ⁵ reported that a lower percentage of schools in which 75 percent or more of students were approved for free or reduced-price lunch offered dual enrollment opportunities for students than did schools with lower participation rates in free or reduced-price lunch programs (71 percent, compared with 93 percent for schools in which 35 to 49 percent of students were approved for free or reduced price lunch).

⁵ nces.ed.gov/pubsearch/pubsinfo.asp?pubid=2020125.

These inequities also include the disproportionate impact of school discipline policies on students of color.⁶ For example, during the 2017-18 school year, African American male students comprised 7.7 percent of all male students enrolled in grades K-12 but accounted for 35.4 percent of male students who received one or more out-of-school suspensions.⁷ White male students, on the other hand, account for 24.4 percent of all male students enrolled, but represent 35.5 percent of male students who received one or more out-of-school suspensions. Black male students are one-third the populace of White male students with disproportionate suspensions that lead to greater education interruption and can have long-term negative consequences. Data from the same year show that African American female students represented 7.4 percent of the total female enrollment but accounted for 13.3 percent of female students who receive one or more out-of-school suspensions, while White females make up 22.9 percent of the total female enrollment and represent 7.99 percent of female students receiving one or more out-of-school suspensions. Research suggests that these disparities can be exacerbated by or are the result of educators' subjective evaluations of students' actions rather than being the product of objective differences in student behavior.⁸ English learners, LGBTQ+ students, children or students with disabilities (as defined in this document), and students from low-income backgrounds also experience higher rates of discipline compared to their peers.⁹

⁶ http://www.pnas.org/content/116/17/8255.abstract.

⁷ 2017-18 Civil Rights Data Collection, released October 2020, updated May 2021, is available at www2.ed.gov/about/offices/list/ocr/docs/crdc-2017-18.html.

⁸ www.apa.org/ed/resources/racial-disparities.pdf.

⁹ Snapp, S. D., & Russell, S. T. (2016). Discipline disparities for LGBTQ youth: Challenges that perpetuate disparities and strategies to overcome them. In Inequality in school discipline (pp. 207-223). Palgrave Macmillan, New York.

Finally, underserved students have less access to qualified educators. For example, schools with high enrollments of students of color were four times as likely to employ uncertified teachers as were schools with low enrollments of students of color.¹⁰ Students in schools with high enrollments of students of color also have less access to experienced teachers. In these schools, nearly one in every six teachers is just beginning his or her career, compared to one in every 10 teachers in schools with low enrollments of students of color.¹¹

¹⁰ https://files.eric.ed.gov/fulltext/EJ990114.pdf.

¹¹ learningpolicyinstitute.org/sites/default/files/product-files/CRDC_Teacher_Access_REPORT.pdf.

This proposed priority seeks to address the inequities in our education system and better enable students to access the educational opportunities they need to succeed in school and reach their future goals, in tandem with other Departmental statutes, which require applicants to develop and describe plans for equity for students, educators, and other program beneficiaries.

Proposed Priority:

Projects designed to promote educational equity and adequacy in resources and opportunity for underserved students—

(a) In one or more of the following educational settings:

(1) Early learning programs.

(2) Elementary school.

(3) Middle school.

(4) High school.

(6) Out-of-school-time (OST) settings.

(7) Juvenile justice system or correctional facilities.

(8) Adult learning; and

(b) That are designed to examine the sources of inequities related to, and implement responses through, one or more of the following:

(1) Promoting student access to and success in rigorous and engaging approaches to learning that are racially, ethnically, culturally, and linguistically inclusive and prepare students for college, career, and civic life, including one or more of the following:

(i) Student-centered learning models that leverage technology to address learner variability (e.g., universal design for learning (as defined in this notice), K-12 competency-based education (as defined in this notice), project-based learning, or hybrid/blended learning) and provide high-quality learning content, applications, or tools.

(ii) Middle school courses or projects that prepare students to participate in advanced coursework in high school.

(iii) Advanced courses and programs, including dual enrollment and early college programs.

(iv) Project-based and experiential learning, including service and work-based learning.

(v) High-quality career and technical education courses, pathways, and industry-recognized credentials that are integrated into the curriculum.

(vi) Science, technology, engineering, and mathematics (STEM), including computer science coursework.

(vii) Civics programs that support students in understanding and engaging in American democratic practices,

(2) Increasing the number and proportion of experienced, fully certified, in-field, and effective educators, and educators from traditionally underrepresented backgrounds or the communities they serve.¹²

¹² All strategies to increase racial diversity of educators must comply with non-discrimination requirements, including Title VI of the Civil Rights Act of 1964.

(3) Improving the preparation, recruitment, and early career support and development of educators in high-need fields (as may be defined in the program statute or regulations) or hard to staff schools.

(4) Improving the retention of fully certified, experienced, and effective educators in high-need schools, and high-need fields.

(5) Addressing inequities in access to and success in learning through racially, ethnically, culturally, and linguistically inclusive pedagogical practice in educator preparation programs and professional development programs so that educators are better prepared to address bias in their classrooms and create inclusive, supportive, equitable, and identity-safe learning environments for their students.

(6) Using technology to enable evidence-based interventions to support student learning in the classroom or support supplemental activities that extend learning time and increase student engagement and, where possible, increase parent engagement.

(7) Creating more equitable and adequate approaches to school funding.

(8) Expanding access to high-quality early learning, including in school-based and community-based settings.

(9) Establishing, expanding, or improving learning environments, which includes early learning, for multilanguage learners, and increasing public awareness about the benefits of fluency in more than one language and how the coordination of language development in the school and the home improves student outcomes for multilanguage learners.

(10) Establishing, expanding, or improving the engagement of underserved community members (including underserved students) in informing and making decisions that influence policy and practice at the school, district, or State level by elevating their voices and their perspectives and providing them with access to opportunities for leadership (e.g., establishing student government programs)).

(11) Improving the quality of educational programs in juvenile justice facilities (such as detention facilities and secure and non-secure placements) or adult correctional facilities.

(12) Supporting re-entry of, and improving long-term outcomes for, youth and adults after release from correctional facilities by linking youth or adults to appropriate support, education, or workforce training programs.

(13) Increasing student racial or socioeconomic diversity at multiple levels, through one or more of the following:

(i) Using high-quality data collection methods to identify racial and socioeconomic stratification, trends in and contributors to stratification, and barriers to racial and socioeconomic diversity.

(ii) Developing or implementing evidence-based policies or strategies that include one or more of the following:

(A) Ongoing, robust family and community involvement.

(B) Intra- or inter-district or regional coordination.

(C) Cross-agency collaboration, such as with housing or transportation authorities.

(D) Alignment with an existing public diversity plan or diversity needs assessment.

(E) Consideration of school assignment or admissions policies that are designed to promote socioeconomic diversity and give preference to students from low-income backgrounds or students residing in neighborhoods experiencing concentrated poverty.

(iii) Establishing or expanding schools, as well as programs within schools, that are designed to attract and foster meaningful interactions among substantial numbers of students from different racial and/or socioeconomic backgrounds, such as magnet schools.

(iv) Developing evidence related to, or providing technical assistance on, evidence-based policies or strategies designed to increase racial and socioeconomic diversity in educational settings.

Proposed Priority 3—Supporting a Diverse Educator Workforce and Professional Growth to Strengthen Student Learning.

Background:

In Proposed Priority 3, the Department recognizes that diverse, well-prepared, and well-supported educators play a critical role in ensuring equity in our education system and student success and emphasizes the importance of promoting the continued development and growth of educators, including through leadership opportunities. It is also important that the diversity of our educator workforce reflect the diversity of our Nation. A diverse educator workforce benefits all students, and educator diversity in particular can improve school-related outcomes for students of color. Higher levels of student achievement,¹³ enrollment in more rigorous courses,¹⁴ increased referrals to gifted and talented programs,¹⁵ and reductions in exclusionary discipline ¹⁶ have all been noted when students of color and educators of color share the classroom. Although no single factor is wholly responsible for these findings, research suggests that teachers of color are more likely to have higher academic expectations for students with whom they share a cultural background.17 18 Teachers of color may also be more likely to address issues of racism in their schools, by, for example, supporting efforts to break down negative stereotypes and prepare all students to live and work in a multiracial society.¹⁹ Teachers of color may also be drawn to working with students of color and it has been noted that “three in four teachers of color work in the quartile of schools serving the most students of color nationally”.²⁰ Because teachers of color are more likely to teach in these schools, which often also have difficulty hiring adequate numbers of qualified teachers, increasing educator diversity can play a critical role in addressing teacher shortages.²¹

¹³ Egalite, Anna, Brian Kisida, and Marcus A. Winters. “Representation in the Classroom: The Effect of Own-race Teachers on Student Achievement,” Economics of Education Review, 45 (April 2015), 44-52.

¹⁴ Grissom, Jason, Sarah Kabourek, and Jenna Kramer. “Exposure to Same-race or Same-ethnicity Teachers and Advanced Math Course-taking in High School: Evidence from a Diverse Urban District,” Teachers College Record, 122 (2020), 1-42.

¹⁵ Grissom, Jason, and Christopher Redding. “Discretion and Disproportionality: Explaining the Underrepresentation of High-achieving Students of Color in Gifted Programs,” AERA Open, 2 (2016), 1-15.

¹⁶ Lindsay, Constance, and Cassandra Hart. “Exposure to Same-race Teachers and Student Disciplinary Outcomes for Black Students in North Carolina,” Educational Evaluation and Policy Analysis, 39 (2017), 485-510.

¹⁷ Ferguson, Ronald. “Teachers' Perceptions and Expectations and the Black-White Test Score Gap,” Urban Education, 38 (2003), 460-507.

¹⁸ Gersheson, Seth, Stephen Holt, and Nicholas Papageorge. “Who Believes in Me? The Effect of Student-Teacher Demographic Match on Teacher Expectations,” Economics of Education Review, 52, (2016), 209-224.

¹⁹ Villegas, Ana María, and Jacqueline Jordan Irvine. “Diversifying the Teaching Force: An Examination of Major Arguments,” The Urban Review, 42 (2010), 175-192.

²⁰ https://learningpolicyinstitute.org/sites/default/files/product-files/Diversifying_Teaching_Profession_REPORT_0.pdf.

²¹ Villegas, Ana María, and Jacqueline Jordan Irvine.

Effective teachers, including experienced ²² teachers who are fully certified,²³ make significant contributions to student academic outcomes.24 25 Despite the importance of these characteristics, there is significant inequity in students' access to well-qualified, experienced, and effective teachers,²⁶ particularly for students from low-income backgrounds, students of color, and children or students with disabilities.

²² Kini, Tara, and Podolsky, Anne. (2016). Does teaching experience increase teacher effectiveness? A review of the research. Palo Alto, CA: Learning Policy Institute. https://learningpolicyinstitute.org/product/does-teaching-experience-increase-teacher-effectiveness-review-research.

²³ Darling-Hammond, Linda, Deborah Holtzman, Sue Jin Gatlin, and Julian Vasquez Heilig. (2005). Does teacher preparation matter? Evidence about teacher certification, Teach for America, and teacher effectiveness. Education Policy Analysis Archives, 13(42). DOI: https://doi.org/10.14507/epaa.v13n42.2005.

²⁴ Chetty, Raj, John N. Friedman, and Jonah E. Rockoff. “Measuring the Impacts of Teachers II: Teacher Value-Added and Student Outcomes in Adulthood,” American Economic Review, 104(9) (2014), 2633-2769.

²⁵ Clotfelter, Charles T., Helen F. Ladd, and Jacob L. Vigdor. (2007). How and why do teacher credentials matter for student achievement? (NBER Working Paper 12828). Cambridge, MA: National Bureau of Economic Research.

²⁶ Isenberg, Eric, Jeffrey Max, Philip Gleason, Matthew Johnson, Jonah Deutsch, and Michael Hansen (2016). Do Low-Income Students Have Equal Access to Effective Teachers? Evidence from 26 Districts (NCEE 2017-4007). Washington, DC: National Center for Education Evaluation and Regional Assistance, Institute of Education Sciences, U.S. Department of Education.

As such, it is essential to attract, support, and retain a diverse, well-qualified, experienced, and effective pool of educators and the first step in that effort is to ensure that candidates have access to high-quality comprehensive preparation programs that have high standards and provide necessary supports for successful completion. It is equally important to support and retain qualified and effective educators through practices such as mentoring early career teachers; improving working conditions; creating or enhancing opportunities for professional growth, including through leadership opportunities; providing competitive compensation and opportunities for educators to take on leadership roles; and creating conditions for successful teaching and learning.

This proposed priority focuses on strengthening teacher recruitment, selection, preparation, support, development, effectiveness, recognition, and retention in ways that are consistent with the Department's policy goals of supporting teachers as the professionals they are and improving outcomes for all students by ensuring that students from low-income backgrounds, students of color, students with disabilities, English learners, and other underserved students have equal access to well-qualified, experienced, diverse, and effective educators.

Proposed Priority:

Projects that are designed to increase the proportion of well-prepared, diverse, and effective educators serving students, with a focus on underserved students, through one or more of the following priority areas:

(a) Increasing the number of diverse educator candidates who have access to an evidence-based comprehensive educator preparation program.

(b) Increasing the number of teachers with certification in an educator shortage area, or advanced certifications from nationally recognized professional organizations.

(c) Promoting knowledge of universal design for learning in educator preparation.

(d) Integrating universal design for learning principles in pedagogical practices and classroom features, such as instructional techniques, classroom materials and resources, and classroom seating.

(e) Implementing loan forgiveness or service-scholarship programs for educators based on completing service obligation requirements.

(f) Building or expanding high-poverty school districts' (as may be defined in the program statute or regulations) capacity to hire, support, and retain an effective and diverse educator workforce, through one or more of the following:

(1) Providing beginning educators with evidence-based mentoring or induction programs.

(2) Adopting or expanding comprehensive, strategic career and compensation systems that provide competitive compensation and include opportunities for educators to serve as mentors and instructional coaches, or to take on additional leadership roles and responsibilities for which educators are compensated.

(3) Developing data systems, timelines, and action plans for promoting inclusive and bias-free human resources practices that promote and support development of educator and school leader diversity.

(g) Supporting effective instruction and building educator capacity through one or more of the following:

(1) Providing high-quality job-embedded professional development opportunities focused on one or more of the following:

(i) Designing and delivering instruction in ways that are engaging, effectively integrate technology, and provide students with opportunities to think critically and solve complex problems, apply their learning in authentic and real-world settings, communicate and collaborate effectively, and develop academic mindsets, including through project-based, work-based, or other experiential learning opportunities.

(ii) Supporting students and their families at key transitional stages in their education as they enter into one or more of the following:

(A) Elementary school.

(B) Middle school.

(C) High school.

(D) Postsecondary education.

(E) Work.

(iii) Meeting the needs of English learners.

(iv) Meeting the needs of children or students with disabilities, including children or students with the most significant disabilities.

(v) Addressing inequities and bias and developing racially, ethnically, culturally, and linguistically inclusive pedagogy.

(vi) Building meaningful and trusting relationships with students' families to support in-home, community-based, and in-school learning.

(vii) For school leaders, improving mastery of essential instructional and organizational leadership skills designed to improve teacher and student learning.

(viii) Supporting teachers in creating safe, healthy, inclusive, and productive classroom environments.

(2) Developing and implementing high-quality assessments (as defined in this notice) of and for student learning (including curriculum-aligned and performance-based tools aligned with State grade-level content standards or, for career and technical education, relevant industry standards) and strategies that allow educators to use the data from assessments to inform instructional design and classroom practices that meet the needs of all students, with a focus on underserved students, and providing high-quality professional development to support educators in implementing these strategies.

(h) Increasing educator capacity to collaborate with diverse stakeholders to carry-out rapid, iterative cycles of evaluation, such as design-based research, improvement science, or other rapid cycle techniques, to design, develop, or improve promising innovations that are designed to benefit underserved students.

Proposed Priority 4— Meeting Student Social, Emotional, and Academic Needs.

Background: The ongoing effects of the dual crises of COVID-19 and systemic racism have affected communities across this country. Countless students have been exposed to trauma and disruptions in learning and have experienced disengagement from school and peers, negatively impacting their mental health and well-being. While all students' overall levels of wellness have been affected, students of color and other underserved students have experienced a disproportionate burden of the pandemic.²⁷ Targeted supports, including those that leverage technology, are needed for students who have been disproportionately affected by the pandemic. Research has demonstrated that, in elementary and secondary schools, children learn, grow, and achieve at higher levels in safe and supportive environments, and in the care of responsive adults they can trust.²⁸ It is critical, then, to prioritize support for students' social, emotional, and academic needs, not only to benefit students' social-emotional wellness, but also to support their academic success and prepare them for their future.

²⁷ Kuhfeld, M., Soland, J., Tarasawa, B., Johnson, A., Ruzek, E., & Liu, J. (2020). Projecting the potential impact of COVID-19 school closures on academic achievement. Educational Researcher, 49(8), 549-565. See also Weissman, S. (April 29, 2021. Steep Enrollment Declines this Spring. Inside Higher ED. https://www.insidehighered.com/news/2021/04/29/spring-brings-even-steeper-enrollment-declines.

²⁸ Reyes, M.R., Brackett, M.A., Rivers, S.E., White, M., & Salovey, P. (2012). Classroom emotional climate, student engagement, and academic achievement. Journal of educational psychology, 104(3), 700.

Because mounting evidence suggests that supporting social-emotional learning (SEL) can contribute to overall student development,29 30 31 educators need access to tools, supports, and other resources focused on SEL supports that can improve effective instructional practices. Integrating evidence-based instructional strategies and approaches proven to support SEL in the classroom has the potential to yield important benefits in students' social, emotional, and academic growth—and avert potential negative outcomes for students. For example, students with unmet social and emotional needs can struggle with social interactions and engagement during instructional and social times during the school day. In turn, this can diminish students' sense of social and academic connection, leading to chronic absenteeism and antisocial behavior in elementary and secondary education.³²

²⁹ Cross Francis, D., Liu, J., Bharaj, P.K., & Eker, A. (2019). “Integrating Social-emotional and Academic Development in Teachers' Approaches to Educating Students,” Policy Insights from the Behavioral and Brain Sciences, 6(2), 138-146.

³⁰ Swanson, E., Melguizo, T., & Martorell, P. (2020). Examining the Relationship between Psychosocial and Academic Outcomes in Higher Education: A Descriptive Analysis. (EdWorkingPaper: 20-286).

³¹ Robbins, S.B., Lauver, K., Le, H., Davis, D., Langley, R., & Carlstrom, A. (2004). Do Psychosocial and Study Skill Factors Predict College Outcomes? A Meta-Analysis. Psychological Bulletin, 130(2), 261-288.

³² Darling-Hammond, Linda, and Cook-Harvey, C. (2018). Educating the Whole Child: Improving School Climate to Support Student Success. LPI

The world of work is also rapidly shifting, and the pre-existing equity gaps in access to high-quality career and technical education--including dual enrollment, industry-recognized credentials, and work-based learning—have been further exacerbated by the COVID-19 pandemic. Creating more equitable systems of multiple, high-quality, flexible college and career pathways that align our schools and postsecondary learning with the demands of the 21st century economy will help narrow disparities in financial security and broaden economic opportunity.

With appropriate and effective supports, students will be more likely to stay engaged in school, experience social-emotional wellness and academic success, and experience positive long-term outcomes in both school and life.³³

³³ Durlak, J.A., Domitrovich, C.E., Weissberg, R.P., and Gullotta, T.P. (Eds.). (2015). Handbook of social and emotional learning: Research and practice. New York: Guilford.

Proposed Priority:

Projects that are designed to improve students' social, emotional, academic, and career development, with a focus on underserved students, through one or more of the following priority areas:

(a) Developing and supporting educator and school capacity to support social and emotional learning and development that—

(1) Fosters skills and behaviors that enable academic progress developed through explicit instruction in social, emotional, and cognitive skills;

(2) Identifies and addresses conditions in the learning environment, that may negatively impact social and emotional well-being for underserved students, including conditions that affect physical safety; and

(3) Is trauma-informed, such as addressing exposure to community-based violence and trauma specific to military- or veteran-connected students (as defined in this notice).

(b) Creating supportive, positive, and identity-safe education or work-based settings that provide racially, ethnically, culturally, and linguistically inclusive instruction, through one or more of the following activities:

(1) Developing trusting relationships between students, educators, families, and community partners, including engaging underserved students.

(2) Providing high-quality professional development opportunities designed to reduce bias, increase engagement and belonging, and build asset-based mindsets for adults working in and throughout schools.

(3) Engaging parents, caregivers, students, and community members as full partners in school climate review and improvement efforts.

(4) Developing and implementing inclusive and culturally informed discipline policies and addressing disparities in school discipline policy by identifying and addressing the root causes of those disparities, including by providing training and resources to support educators.

(5) Supporting students to engage in real-world, hands-on learning in community-based settings, such as apprenticeships, pre-apprenticeships, work-based learning and service learning, and engaging in civic activities, that allow them to apply their knowledge and skills, strengthen their employability skills, and access career exploration opportunities.

(c) Creating a positive, inclusive, and identity-safe climate at institutions of higher education through one or more of the following activities:

(1) Fostering a sense of belonging and inclusion for underserved students.

(2) Implementing evidence-based practices for advancing student success for underserved students.

(3) Providing evidence-based professional development opportunities designed to reduce bias and build asset-based mindsets for faculty and staff on campus, including high-quality racially, ethnically, culturally, and linguistically inclusive practices for students, faculty, staff, and community.

(4) Developing any necessary updates to the institution's harassment policies and procedures to ensure they apply to harassment that occurs in the institution's educational programs and activities, including during hybrid and distance education.

(d) Providing multi-tiered systems of supports to meet students' academic, social, and emotional needs, including by offering evidence-based trauma-informed practices, to address learning barriers both in and out of the classroom, that enable healthy development and respond to students needs and which may include professional development for educators on avoiding deficit-based approaches.

(e) Developing or implementing policies and practices that prevent or reduce significant disproportionality on the basis of race or ethnicity with respect to the identification, placement, and disciplining of children or students with disabilities.

(f) Providing all students access to physically healthy learning environments, such as energy-efficient spaces, for one or more of the following:

(1) Early learning environments.

(2) Elementary or secondary schools.

(3) Out-of-school time learning spaces.

(4) Postsecondary institutions.

(g) Providing students equitable access to social workers, psychologists, counselors, nurses, or mental health professionals and other integrated services and supports, which may include in early learning environments.

(h) Preparing educators to implement project-based or experiential learning opportunities for students to strengthen their metacognitive skills, self-direction, self-efficacy, competency, or motivation, including through instruction that: Connects to students' prior knowledge and experience; provides rich, engaging, complex, and motivating tasks; or offers opportunities for collaborative learning.

(i) Creating comprehensive schoolwide frameworks (such as small schools or learning communities, advisory systems, or looping educators) that support strong and consistent student and educator relationships.

(j) Fostering partnerships, including across government agencies (e.g., housing, human services or employment agencies), LEAs, community-based organizations and postsecondary education intuitions, to provide comprehensive services to children, students and families that support student social, emotional, mental health and academic needs.

Proposed Priority 5—Increasing Postsecondary Education Access, Affordability, Completion, and Post-Enrollment Success.

Background:

Postsecondary education, including career and technical education, is increasingly necessary for individuals to compete in a global economy. Therefore, the Nation must boost completion rates at all levels of postsecondary education. This proposed priority supports projects that prepare students, particularly underserved students, for college and the workforce; enroll more students in postsecondary education and help them succeed; and make college more affordable. This proposed priority also supports career and technical education that connects with and leads to postsecondary education programs of study and provides students with the knowledge and skills to succeed in the workforce, earn a competitive wage, and pursue lifelong learning and career and economic advancement opportunities.

With this proposed priority, we also aim to encourage adult learners to reengage in learning, by meeting them where they are and preparing them to succeed in postsecondary coursework such as through adult education and literacy activities that will help increase their employability.

In addition to supporting projects that prepare students for careers and college, we must make it easier for all students to afford postsecondary education, including career and technical education, to complete their credential in a timely manner, and to understand the returns to their program of study. The average net price of a college education has risen for many undergraduates, particularly full-time students attending four-year public colleges and universities, widening the affordability gap.³⁴ Potential strategies for addressing these challenges as part of a broader structure supporting student success could include: Reducing time to degree and credential; improving transferability between community colleges and four year institutions; supporting degree and credential completion, particularly among underserved students; providing financial and non-financial comprehensive supports; and increasing transparency about the price of college, typical levels of student indebtedness, and median earnings.

³⁴ https://nces.ed.gov/programs/coe/indicator_cua.asp.

Proposed Priority:

Projects that are designed to increase postsecondary access, affordability, success, and completion for underserved students by addressing one or more of the following priority areas:

(a) Projects implemented by or in partnership with one or more of the following entities:

(1) Community colleges (as defined in this notice).

(2) Historically Black colleges and universities (as defined in this notice).).

(3) Tribal colleges and universities (as defined in this notice).).

(4) Minority-serving institutions (as defined in this notice).).

(b) Increasing postsecondary attainment and reducing the cost of college by creating clearer pathways for students between institutions and making transfer of course credits more seamless and transparent.

(c) Increasing the number and proportion of underserved students who enroll in and complete postsecondary education programs, which may include strategies related to college preparation, awareness, application, selection, advising, counseling and enrollment.

(d) Reducing the net price or debt-to-earnings ratio for underserved students who enroll in or complete college, other postsecondary education, or career and technical education programs.

(e) Establishing a system of high-quality data, such as data on persistence, retention, and completion, for transparency, accountability, and institutional improvement.

(f) Supporting the development and implementation of student success programs that integrate multiple comprehensive and evidence-based services or initiatives, such as academic advising, structured/guided pathways, career services, programs to meet basic needs, such as housing, childcare and transportation, student financial aid, and access to technological devices.

(g) Increasing the number of individuals who return to the educational system to obtain a regular high school diploma, or its recognized equivalent for adult learners; enroll in and complete community college, college, or career and technical training; or obtain basic and academic skills that they need to succeed in community college, college, career and technical education, and/or the workforce.

(h) Supporting the development and implementation of high-quality and accessible learning opportunities, including learning opportunities that are accelerated or hybrid online; credit-bearing; work-based; and flexible for working students.

(i) Supporting evidence-based practices in career and technical education and ensuring equitable access to and successful completion of high-quality programs, credentials, or degrees.

(j) Supporting the development or implementation of evidence-based strategies to promote students' development of the necessary knowledge and skills necessary for success in the workforce and civic life.

(k) Connecting children or students with disabilities, adults with disabilities, and disconnected youth to resources designed to improve independent living and the achievement of employment outcomes, which may include the provision of pre-employment transition services, transition and other vocational rehabilitation services under the Vocational Rehabilitation program, and transition and related services under IDEA.

(l) Providing students access to international education, education in cultural and global competencies, and foreign language training in preparation for global competitiveness.

Proposed Priority 6—Strengthening Cross-Agency Coordination and Community Engagement to Advance Systemic Change.

Background:

Schools and campuses are often the center of the community for students and their families, providing students with the resources and referrals they need to meet their full potential. Ensuring that students and families have access to nutritious food, housing, health services, employment/financial services, and other community resources is pivotal to ensuring success in the classroom, which in turn uplifts community vitality. These needs are best met through cross-agency coordination and partnerships between schools, campuses, and other organizations in the community. In this way, effective partnerships can make it easier for families to have various needs met by the school and support systemic, long-term change. Numerous programs require or emphasize the importance of such partnerships in improving outcomes for students and their families. This proposed priority would encourage partnerships with other agencies or entities and support cross-agency, and cross-community partnerships at the State and local levels.

Proposed Priority:

Projects that are designed to take a systemic approach to improving outcomes for underserved students in one or more of the following priority areas:

(a) Coordinating efforts with Federal, State, or local agencies, or community-based organizations that support students, to address one or more of the following:

(1) Food assistance.

(2) Energy.

(3) Climate change.

(4) Housing.

(5) Homelessness.

(6) Transportation.

(7) Health.

(8) Childcare.

(9) School diversity.

(10) Justice policy.

(11) Workforce development.

(12) Technology.

(13) Public safety.

(13) Community violence.

(14) Social services.

(15) Voting access and registration.

(16) Another key field-initiated focus area.

(b) Conducting community needs and asset mapping to identify existing programs that can be leveraged to advance systemic change and programs or initiatives that need to be implemented.

(c) Establishing cross-agency partnerships, or community-based partnerships with local nonprofit organizations, businesses, philanthropic organizations, or others, to meet family well-being needs.

(d) Identifying, documenting, and disseminating policies, strategies, and best practices on effective approaches to creating systemic change through cross-agency, or community-based coordination and collaboration.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Proposed Definitions

Background:

We propose specific definitions to promote a shared understanding of the scope of activities that could be supported by these priorities. Under the proposed definition of “underserved students,” the Secretary may include the entire definition within a grant program or one or more of the subparts of the definition that are most relevant for the grant program.

Proposed Definitions:

We propose the following definitions for use with the proposed priorities:

Children or students with disabilities means children with disabilities as defined in the Individuals with Disabilities Education Act (IDEA) or students with disabilities, as defined at section 7(37) of the Rehabilitation Act of 1973 (29 U.S.C. 705(37)) 705(37)).

Community college means “junior or community college” as defined in section 312(f) of the Higher Education Act of 1965, as amended (HEA).

Competency-based education (also called proficiency-based or mastery-based learning) means learning based on knowledge and skills that are transparent and measurable. Progression is based on demonstrated mastery of what students are expected to know (knowledge) and be able to do (skills), rather than seat time or age.

Culturally and linguistically inclusive means pedagogical practices that address inequities in access to and success in school by recognizing and valuing all students' identities, cultures, and potential.

Disconnected youth means an individual, between the ages 14 and 24, who may be from a low-income background, experiences homelessness, is in foster care, is involved in the justice system, or is not working or not enrolled in (or at risk of dropping out of) an educational institution.

Early learning means any (a) State-licensed or State-regulated program or provider, regardless of setting or funding source, that provides early care and education for children from birth to kindergarten entry, including, but not limited to, any program operated by a child care center or in a family child care home; (b) program funded by the Federal Government or State or local educational agencies (including any IDEA-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

English learner means an individual who is an English learner as defined in section 8101(20) of the Elementary and Secondary Education Act of 1965, as amended, or an individual who is an English language learner as defined in section 203(7) of the Workforce Innovation and Opportunity Act.

Evidence-based has the meaning ascribed to it in 34 CFR 77.1 or the ESEA, as applicable.

High-quality assessments means diagnostic, formative, or summative assessments that are valid and reliable for the purposes for which they are used and that provide relevant and timely information to help educators and parents or caregivers support students.

Historically Black colleges and universities means colleges and universities that meet the criteria set out in 34 CFR 608.2.

Military- or veteran-connected student means one or more of the following:

(a) A child participating in an early learning program, a student enrolled in preschool through grade 12, or a student enrolled in career and technical education or postsecondary education who has a parent or guardian who is a member of the uniformed services (as defined by 37 U.S.C. 101, in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Minority-serving institution (MSI) means an institution that is eligible to receive assistance under sections 316 through 320 of part A of title III, under part B of title III, or under title V of the HEA.

Tribal College or University has the meaning ascribed it in section 316(b)(3) of the HEA.

Underserved student means a student (which may include children in early learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A migrant student.

(h) A student experiencing homelessness or housing insecurity.

(i) A lesbian, gay, bisexual, transgender, queer, or intersex (LGBTQ+) student.

(j) A student who is in foster care.

(k) A student without documentation of immigration status.

(l) A pregnant, parenting, or caregiving student.

(m) A student impacted by the justice system, including a formerly incarcerated student.

(n) A student who is the first in their family to attend postsecondary education.

(o) A student enrolling in or seeking to enroll in postsecondary education for the first time at the age of 20 or older.

(p) A student who is working full-time while enrolled in postsecondary education.

(q) A student who is enrolled in or is seeking to enroll in postsecondary education who is eligible for a Pell Grant.

(r) An adult student in need of improving their basic skills or an adult student with limited English proficiency.

(s) A student performing significantly below grade level.

Universal design for learning has the meaning ascribed it in section 103(24) of the HEA.

Final Priorities and Definitions:

We will announce the final priorities and definitions in a document published in the Federal Register. We will determine the final priorities and definitions after considering responses to the proposed priorities and definitions and other information available to the Department. This document does not preclude us from proposing additional priorities, requirements, definitions, or selection criteria, subject to meeting applicable rulemaking requirements.

Note: This document does not solicit applications. In any year in which we choose to use these priorities and definitions, we invite applications through a notice inviting applications in the Federal Register.

Executive Orders 12866 and 13563

Regulatory Impact Analysis

Under Executive Order 12866, the Office of Management and Budget (OMB) must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities and definitions only on a reasoned determination that their benefits would justify their costs. In choosing among alternative regulatory approaches, we selected those approaches that would maximize net benefits. Based on an analysis of anticipated costs and benefits, we believe that these proposed priorities and definitions are consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Potential Costs and Benefits

The proposed priorities and definitions would impose minimal costs on entities that would receive assistance through the Department's discretionary grant programs. Additionally, the benefits of implementing the proposed priorities and definitions outweigh any associated costs because it would result in the Department's discretionary grant programs encouraging the submission of a greater number of high-quality applications and supporting activities that reflect the Administration's educational priorities.

Application submission and participation in a discretionary grant program are voluntary. The Secretary believes that the costs imposed on applicants by the proposed priorities and definitions would be limited to paperwork burden related to preparing an application for a discretionary grant program that is using a priority in its competition. Because the costs of carrying out activities would be paid for with program funds, the costs of implementation would not be a burden for any eligible applicants, including small entities.

Clarity of the Regulations

Executive Order 12866 and the Presidential memorandum “Plain Language in Government Writing” require each agency to write regulations that are easy to understand.

The Secretary invites comments on how to make the proposed priorities and definitions easier to understand, including answers to questions such as the following:

• Are the requirements in the proposed regulations clearly stated?

• Do the proposed regulations contain technical terms or other wording that interferes with their clarity?

• Would the proposed regulations be easier to understand if we divided them into more (but shorter) sections?

• Could the description of the proposed regulations in the SUPPLEMENTARY INFORMATION section of this preamble be more helpful in making the proposed regulations easier to understand? If so, how?

To send any comments that concern how the Department could make the proposed priorities and definitions easier to understand, see the instructions in the ADDRESSES section.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

The Secretary certifies that this proposed regulatory action would not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this proposed regulatory action would affect are early learning providers, school districts, IHEs, nonprofit organizations, and for-profit organizations. Of the impacts we estimate accruing to grantees or eligible entities, all are voluntary and related mostly to an increase in the number of applications prepared and submitted annually for competitive grant competitions. Therefore, we do not believe that the proposed priorities and definitions would significantly impact small entities beyond the potential for increasing the likelihood of their applying for, and receiving, competitive grants from the Department.

Paperwork Reduction Act

The proposed priority and definitions do not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of the Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Miguel Cardona,
Secretary of Education.

[FR Doc. 2021-14003 Filed 6-29-21; 8:45 am]

BILLING CODE 4000-01-P